DEPARTMENT OF TRANSPORTATION

Surface Transportation Board

[Docket No. EP 519 (Sub-No. 4)]

National Grain Car Council Meeting

AGENCY: Surface Transportation Board, DOT.

ACTION: Notice of meeting.

SUMMARY: Notice is hereby given of a meeting of the National Grain Car Council (NGCC), pursuant to the Federal Advisory Committee Act, 5 U.S.C., app. 2 section 10(a)(2).

DATES: The meeting will be held on Thursday, September 11, 2014, beginning at 1 p.m. (CDT), and is expected to conclude at 5 p.m. (CDT).

ADDRESSES: The meeting will be held at the Radisson Blu Minneapolis, 35 South 7th Street, Minneapolis, MN 55402. Phone (866) 460-7456.

FOR FURTHER INFORMATION CONTACT: Fred Forstall at (202) 245-0241 or alfred.forstall@stb.dot.gov. [Assistance for the hearing impaired is available through the Federal Information Relay Service (FIRS) at: (800) 877-8339].

SUPPLEMENTARY INFORMATION: The NGCC was established by the Interstate Commerce Commission (ICC) as a working group to facilitate private-sector solutions and recommendations to the ICC (and now the Board) on matters affecting rail grain car availability and transportation. Nat'l Grain Car Supply—Conference of Interested Parties, EP 519, (ICC served Jan. 7, 1994).

The general purpose of this meeting is to discuss rail carrier preparedness to transport the 2014 grain harvest. Agenda items include the following: Remarks by Board Chairman Daniel R. Elliott III, Board Vice Chairman and NGCC Co-Chairman Deb Miller, and Commissioner Ann D. Begeman; a review of the upcoming harvest by Jay O'Neil, Senior Agricultural Economist, IGP Institute, Kansas State University; and follow-up responses, as well as discussions of related issues, by railroad, shipper, and manufacturer/lessor response panels. The full agenda, along with other information regarding the NGCC, is posted on the Board's Web site at http://www.stb.dot.gov/stb/rail/graincar_council.html.

The meeting, which is open to the public, will be conducted pursuant to the Federal Advisory Committee Act, 5 U.S.C. app. 2; Federal Advisory Committee Management, 41 CFR part 102-3; the NGCC Charter; and Board procedures.

Public Comments: Members of the public may submit written comments to the NGCC at any time. Comments should be addressed to NGCC, c/o Fred Forstall, Surface Transportation Board, 395 E Street SW., Washington, DC 20423-0001 or alfred.forstall@stb.dot.gov. Any further communications about this meeting will be announced through the STB Web site.

This action will not significantly affect either the quality of the human environment or the conservation of energy resources.

Decided: September 2, 2014.
By the Board, Rachel D. Campbell, Director, Office of Proceedings.
Raina S. White,
Clearance Clerk.

[FR Doc. 2014-21282 Filed 9-4-14; 8:45 am]

BILLING CODE 4915-01-P